DEPARTMENT OF TRANSPORTATION

Federal Railroad Administration

[Docket No. FRA-2025-0006]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before August 19, 2025.

ADDRESSES: Written comments and recommendations for the proposed ICR should be submitted on www.regulations.gov to the docket, Docket No. FRA-2025-0006. All comments received will be posted without change to the docket, including any personal information provided. Please refer to the assigned OMB control number (2130-0630) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Inquiry into Blocked Highway-Rail Grade Crossings Throughout the United States.

OMB Control Number: 2130-0630.

Abstract: In 2020, FRA created a dedicated website allowing the public and law enforcement personnel to use web-based forms to voluntarily submit information about blocked highway-rail grade crossings to FRA.¹ Under the currently approved ICR, users provide information regarding the location, date, time, duration, and immediate impacts of highway-rail grade crossings blocked by slow-moving or stationary trains. FRA uses the data collected to gain a more complete picture of where, when, and for how long blocked crossings occur, and what impacts result from those incidents.² Additionally, FRA uses the information to respond to inquiries from members of Congress and their constituents. FRA also uses the information gathered to facilitate meetings, outreach, and other solutions for stakeholders to reduce or eliminate blocked crossing concerns.

¹ Access to the web-based form used by the public is unrestricted.

² The data collection is not designed to provide a representative sample or create generalizable statistics. Additionally, the data gathered from this collection is not suitable for use in budgetary requests or regulatory proposals.

Upon accessing these web-based forms, users are notified there are no Federal laws or regulations that specifically address the length of time a train may occupy a highway-rail grade crossing. Users are also notified that information submitted will not be forwarded to a railroad, State, or local agency, and will only be used for data collection purposes to determine the locations, times, and impacts of blocked crossings.

On November 15, 2021, the Infrastructure Investment and Jobs Act of 2021 (Pub. L. 117 58) “IIJA” was enacted. In addition to mandating that FRA establish an online portal and corresponding database to receive information regarding blocked highway-rail grade crossings, as enacted, section 22404 of the IIJA “encourages each complainant to report the blocked crossing to the relevant railroad.” Subsequently, FRA modified the existing web-based forms by adding one question, “have you contacted the railroad?” Otherwise, the rest of the questions on the web-based forms remained the same.³

³ The average time per response will remain the same at 3 minutes per response since the modification made pursuant to the IIJA is de minimis.

FRA takes the problem of blocked crossings very seriously, due to their potential impact on safety and on citizens' quality of life. There are potential safety concerns with crossings that are blocked by trains. For instance, pedestrians may crawl under or through stationary trains. Also, emergency response vehicles and first responders may be delayed when responding to an incident or transporting persons to a hospital. In addition, drivers may take more risks, such as driving around lowered gates at a crossing or attempting to beat a train through a crossing without gates, to avoid a lengthy delay if they are aware that trains routinely block a crossing for extended periods of time. There are also potential economic impacts that affect businesses, such as stores or restaurants not being accessible to their customer base for an extended amount of time. Finally, highway-rail grade crossings that are blocked for extended time periods may create societal nuisances, such as roadway congestion, delayed mail service and deliveries, disrupted school and work arrival and dismissal, or missed appointments.

In this 60-day notice, FRA has made adjustments that increased the previously approved burden estimate by 543 hours. This increase, after a thorough review, is due to the increased number of users submitting information about blocked crossings through the web-based form. In a July 2022 memorandum,⁴ DOT issued requirements for the implementation of an enhanced Multi-Factor Authentication (MFA), making the use of a username and password no longer acceptable on public applications. Additionally, based on data analyses taken from prior years' submission, FRA found that usage of the restricted-access, dedicated web link for law enforcement users with a username and password was much lower than anticipated. Due to the observed low usage of the dedicated law enforcement web link and the large burden associated with providing all law enforcement and first responders with the required DOT email address to use MFA, FRA determined that maintaining the restricted access, dedicated web link was not administratively practical. Subsequently, FRA removed it and all blocked crossing information is now being submitted using the unrestricted web-based form for the public.

⁴ See U.S. Department of Transportation Implementation Guidance for Multi-Factor Authentication for Users of Information Systems and Applications, ITIM 2022-006, July 8, 2022.

This submission reflects information received though the web-based form available for use by all members of the public, such as law enforcement, first responders and concerned citizens.

Type of Request: Extension with change of a previously approved collection.

Affected Public: General public.

Form(s): FRA F 6180.175.

Respondent Universe: General public.

Frequency of Submission: On occasion.

Reporting Burden:

⁵ For the value of the public's time, FRA used the civilian average hourly rate of $46.84 that includes an average benefit rate of 31.1 percent ($14.59) from the Department of Labor, Bureau of Labor Statistics' December 17, 2024, Employer Costs for Employee Compensation.

⁶ For railroad respondents, the dollar equivalent cost is derived from the 2023 Surface Transportation Board Full Year Wage A&B data series using employee group 200 (Professional Administrative Staff) hourly wage rate of $50.93. The total burden wage rate (straight time plus 75%) used in the table is $89.13 ($50.93 × 1.75 = $89.13).

⁷ Totals may not add up due to rounding.

Information collection | Total annual responses | Average time per response | Total annual burden hours | Total cost equivalent
| (A) | (B) | (C) = A * B | (D) = C * wage rate
General public via the form on the FRA website | 26,711 | 3 minutes | 1,335.55 | ⁵ $62,557.17
Monthly meeting between FRA and Class I railroads on blocked crossings—Review of blocked crossings data from FRA's blocked crossings portal | 12 | 20 hours | 240 | ⁶ 21,391.20
Total ⁷ | 26,723 | N/A | 1,576 | 83,948.37

Total Estimated Annual Responses: 26,723.

Total Estimated Annual Burden: 1,576 Hours.

Total Estimated Annual Burden Hour Dollar Cost Equivalent: $84,948.37.

FRA informs all interested parties that it may not conduct or sponsor, and a respondent is not required to respond to, a collection of information that does not display a currently valid OMB control number.

Authority: 44 U.S.C. 3501-3520.

Christopher S. Van Nostrand,
Deputy Chief Counsel.

[FR Doc. 2025-11277 Filed 6-18-25; 8:45 am]

BILLING CODE 4910-06-P